NUCLEAR REGULATORY COMMISSION

[Docket Nos. 50-373 and 50-374; NRC-2014-0268]

LaSalle County Station, Units 1 and 2

AGENCY: Nuclear Regulatory Commission.

ACTION: License renewal application; receipt.

SUMMARY: The U.S. Nuclear Regulatory Commission (NRC) has received an application for the renewal of operating licenses NPF-11 and NPF-18, which authorize Exelon Generation Company, LLC (the applicant) to operate LaSalle County Station (LSCS), Units 1 and 2. The renewed licenses would authorize the applicant to operate LSCS, Units 1 and 2, for an additional 20-year period beyond the periods specified in each of the current licenses. The current operating licenses for LSCS, Units 1 and 2, expire on April 17, 2022, and December 16, 2023, respectively.

DATES: The license renewal application referenced in this document is available on December 18, 2014.

ADDRESSES: Please refer to Docket ID NRC-2014-0268 when contacting the NRC about the availability of information regarding this document. You may obtain publicly-available information related to this document using any of the following methods:

• Federal Rulemaking Web site: Go to http://www.regulations.gov and search for Docket ID NRC-2014-0268. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The license renewal application is available in ADAMS under Accession No. ML14343A849.

• NRC's PDR: You may examine and purchase copies of public documents at the NRC's PDR, Room O1-F21, One White Flint North, 11555 Rockville Pike, Rockville, Maryland 20852.

FOR FURTHER INFORMATION CONTACT: Jeffrey Mitchell, Office of Nuclear Reactor Regulation, U.S. Nuclear Regulatory Commission, Washington, DC 20555-0001; telephone: 301-415-3019; email: Jeffrey.Mitchell2@nrc.gov.

SUPPLEMENTARY INFORMATION: The NRC has received an application, from Exelon Generation Company, LLC dated December 9, 2014, filed pursuant to Section 103 of the Atomic Energy Act of 1954, as amended, and Part 54 of Title 10 of the Code of Federal Regulations, to renew the operating licenses for LSCS, Units 1 and 2. Renewal of the licenses would authorize the applicant to operate the facilities for an additional 20-year period beyond the periods specified in the respective current operating licenses. The current operating licenses for LSCS, Units 1 (NPF-11) and 2 (NPF-18), expire at midnight on April 17, 2022, and December 16, 2023, respectively. The LSCS, Units 1 and 2, are boiling-water reactors designed by General Electric and are located in Brookfield Township, LaSalle County, Illinois. The acceptability of the tendered application for docketing, and other matters, including an opportunity to request a hearing, will be the subject of subsequent Federal Register notices.

A copy of the license renewal application for LSCS, Units 1 and 2, is also available to local residents near the site at the Reddick Public Library District, 1010 Canal St., Ottawa, IL 61350, Marseilles Public Library, 155 East Bluff St., Marseilles, IL 61341, and Seneca Public Library District, 210 N. Main St., Seneca, IL 61360.

Dated at Rockville, Maryland, this 11th day of December 2014.
For the Nuclear Regulatory Commission.
Christopher G. Miller,
Director, Division of License Renewal, Office of Nuclear Reactor Regulation.

[FR Doc. 2014-29667 Filed 12-17-14; 8:45 am]

BILLING CODE 7590-01-P